DEPARTMENT OF THE INTERIOR

Fish and Wildlife Service

50 CFR Part 17

DEPARTMENT OF COMMERCE

National Oceanic and Atmospheric Administration

50 CFR Parts 223 and 224

[Docket No. 120425024-5724-05]

RIN 0648-XB089

Endangered and Threatened Species; Identification and Proposed Listing of Eleven Distinct Population Segments of Green Sea Turtles (Chelonia mydas) as Endangered or Threatened and Revision of Current Listings; Third Extension of Comment Period

AGENCY: National Marine Fisheries Service (NMFS), National Oceanic and Atmospheric Administration (NOAA), Commerce; United States Fish and Wildlife Service (USFWS), Interior.

ACTION: Proposed rule; extension of comment period.

SUMMARY: On March 23, 2015, NMFS and USFWS (or the Services) published a proposed rule to revise the listings of the green sea turtle (Chelonia mydas; hereafter referred to as the green turtle) under the Endangered Species Act (ESA). We opened a public comment period that lasted through June 22, 2015. On June 17, 2015, we published a document extending the public comment period through July 27, 2015. On July 27, 2015, we published a document again extending the public comment period to August 26, 2015. Having received a request to further extend the comment period, with this document we further extend the comment period to September 25, 2015.

DATES: The comment period for the notice of proposed rulemaking published on March 23, 2015 (80 FR 15271), is extended. Comments and information regarding this proposed rule must be received by close of business on September 25, 2015.

ADDRESSES: You may submit comments on the proposed rule, identified by NOAA-NMFS-2012-0154, by any of the following methods:

• Electronic Submissions: Submit all electronic public comments via the Federal e-Rulemaking Portal.

1. Go to www.regulations.gov/#!docketDetail;D=NOAA-NMFS-2012-0154,

2. Click the “Comment Now!” icon, complete the required fields, and

3. Enter or attach your comments.

OR

• Mail: Submit written comments to Green Turtle Proposed Listing Rule, Office of Protected Resources, National Marine Fisheries Service, 1315 East-West Highway, Room 13535, Silver Spring, MD 20910; or Green Turtle Proposed Listing Rule, U.S. Fish and Wildlife Service, North Florida Ecological Services Office, 7915 Baymeadows Way, Suite 200, Jacksonville, FL 32256.

Instructions: Comments sent by any other method, to any other address or individual, or received after the end of the comment period, may not be considered by the Services. All comments received will be a part of the public record and will generally be posted for public viewing on www.regulations.gov without change. All personal identifying information (e.g., name, address, etc.), confidential business information, or otherwise sensitive information submitted voluntarily by the sender will be publicly accessible. The Services will accept anonymous comments (enter “N/A” in the required fields if you wish to remain anonymous). The proposed rule is available electronically at http://www.nmfs.noaa.gov/pr/species/turtles/green.htm and http://www.fws.gov/northflorida/seaturtles/turtle%20factsheets/green-sea-turtle.htm.

FOR FURTHER INFORMATION CONTACT: Jennifer Schultz, NMFS (ph. 301-427-8443, email jennifer.schultz@noaa.gov), or Ann Marie Lauritsen, USFWS (ph. 904-731-3032, email annmarie_lauritsen@fws.gov). Persons who use a Telecommunications Device for the Deaf (TDD) may call the Federal Information Relay Service (FIRS) at 1-800-877-8339, 24 hours a day, and 7 days a week.

SUPPLEMENTARY INFORMATION:

Background

The green turtle is currently listed under the ESA as a threatened species globally, with the exception of the Florida and Mexican Pacific coast breeding populations, which are listed as endangered. On March 23, 2015 (80 FR 15271), the Services published a proposed rule to revise these listings because we found that the green turtle is composed of 11 distinct population segments (DPSs) that qualify for listing under the ESA. We proposed to remove the current listings and, in their place, list eight DPSs as threatened and three as endangered. We also proposed to apply existing protective regulations to the DPSs and to continue the existing critical habitat designation (i.e., waters surrounding Culebra Island, Puerto Rico) in effect for the North Atlantic DPS. We solicited comments on these proposed actions and indicated that comments must be received by June 22, 2015. On June 7, 2015 (80 FR 34594), we announced additional public hearings and extended the public comment period through July 27, 2015. On July 27, 2015 (80 FR 44322), we extended the public comment period through August 26, 2015, due to a typhoon and the loss of internet in Saipan, Commonwealth of the Northern Mariana Islands (CNMI). On August 17, 2015, we received a request to further extend the public comment period due to another typhoon and the loss of electricity in CNMI. We concur with this request and hereby extend the public comment period by an additional 30 days, until September 25, 2015. Previously submitted comments do not need to be resubmitted.

Authority: 16 U.S.C. 1531 et seq.

Dated: August 19, 2015.
Samuel D. Rauch III,
Deputy Assistant Administrator for Regulatory Programs, National Marine Fisheries Service.
Dated: August 18, 2015.
James W. Kurth,
Acting Director, U.S. Fish and Wildlife Service.

[FR Doc. 2015-21150 Filed 8-25-15; 8:45 am]

BILLING CODE 3510-22-P